DELAWARE RIVER BASIN COMMISSION

Notice of Commission Meeting and Public Hearing

Notice is hereby given that the Delaware River Basin Commission will hold a meeting and public hearing on Wednesday, July 15, 2009. The hearing will be part of the Commission's regular business meeting, which is open to the public. The meeting will be held at the Northampton Community College's Fowler Family Southside Center, 511 East 3rd Street, 6th Floor, Room 605, Bethlehem, Pennsylvania.

No morning conference session is planned in connection with this meeting. The subjects of the public hearing to be held during the 1 p.m. business meeting include the dockets listed below:

1. Borough of Ambler D-75-16 CP-3. An application for the renewal of the Ambler Borough Wastewater Treatment Plant (WWTP). The existing WWTP will continue to discharge treated effluent at an annual average flow of 6.5 million gallons per day (mgd) and a maximum monthly flow of 8.0 mgd. The WWTP discharges to the Wissahickon Creek, a tributary to the Schuylkill River. The facility is located in Upper Dublin Township, Montgomery County, Pennsylvania in the Southeastern Pennsylvania Ground Water Protected Area.

2. Moon Nurseries D-88-28-3. An application for the renewal of a ground water withdrawal project to continue the withdrawal of 8 million gallons per thirty days (mg/30 days) to supply the applicant's irrigation supply from existing Well No. 1 in the Stockton Formation. The project is located in the Core Creek Watershed in Lower Makefield Township, Bucks County, Pennsylvania, within the Southeastern Pennsylvania Ground Water Protected Area.

3. Solvay Solexis D-69-84-3. An application to renew the withdrawal of water from two existing groundwater wells (Wells Nos. 417 and 418) and four existing groundwater remediation wells (Wells Nos. RW-1, RW-2, RW-3, and RW-4). In addition, pump capacity for remediation Wells Nos. RW-1, RW-2, RW-3, and RW-4 will increase from 48 gallons per minute (gpm), 48 gpm, 141 gpm, and 98 gpm to 60 gpm, 60 gpm, 250 gpm, and 250 gpm, respectively. The increased pump capacities for the remediation wells accompany an increase in the 30 day average withdrawal from 14.91 million gallons (mg) to 18.84 mg for the four remediation wells. However, the overall 30 day average and yearly withdrawals will decrease from 74.91 mg and 476.68 mg to 60 mg and 301.13 mg, respectively. The project wells are located in the Upper and Lower Potomac-Raritan-Magothy (PRM) Formation, in the Delaware River Watershed, in West Deptford Township, Gloucester County, New Jersey.

4. Waste Management Disposal Services of Pennsylvania, Inc. D-88-54-5. An application to replace a 0.1 mgd landfill leachate treatment plant (LTP) with a 0.3 mgd treatment facility, which will discharge to the tidal Delaware River via a new outfall in Water Quality Zone 2 at River Mile 125.64. The LTP serves the GROWS and Tullytown Sanitary Landfills and is located off Bordentown Road in Falls Township, Bucks County, Pennsylvania.

5. BP Oil Company D-91-32-5. An application for renewal of a ground water withdrawal project that will decrease the total monthly average and yearly withdrawals of 30 million gallons per thirty days (mg/30 days) and 365 million gallons per year (mgy), respectively, to 21.6 mg/30 days and 207 mgy, respectively. Withdrawals will occur from existing Wells Nos. R-3, MW-R5, R-4A, R-5A, R-6A, R-8, R-9, R-10, R-11, and R-12. Additionally, this docket will approve the renewal of a discharge of treated remediation water from the docket holder's 1.0 mgd groundwater treatment plant (GWTP). The project wells are located in the Mantua Creek and the Delaware River Watersheds within the Potomac-Raritan-Magothy Formation, in Paulsboro Borough, Gloucester County, New Jersey. The contaminated groundwater is treated and discharged to the Delaware River, approximately 2,000 feet downstream of the Mantua Creek confluence, via Outfall No. 003A located at River Mile 89.3 in DRBC Water Quality Zone 4.

6. Shoemakersville D-93-74 CP-2. The purpose of this project is to recognize the increase in capacity of the Shoemakersville WWTP's hydraulic load from 0.60 mgd to 0.75 mgd. Additionally, a TDS determination was submitted, requesting approval of monthly average and instantaneous maximum concentration values of 3,300 mg/l and 4,000 mg/l, respectively. The project is located on the Schuylkill River at River Mile 92.47-92.3, in the Borough of Shoemakersville, Berks County, Pennsylvania.

7. Bucks County Water and Sewer Authority D-93-76 CP-2. An application for approval of a modification to the Bucks County Water and Sewer Authority (BCWSA) Upper Dublin WWTP. The application is for the addition of a ferric chloride chemical feed system. The project also includes the transfer of ownership from Upper Dublin Township to the BCWSA and the re-rate of the average annual daily flow rate of the existing WWTP from 0.85 mgd to 1.10 mgd. The WWTP will continue to discharge to Pine Run, a tributary to the Wissahickon Creek, which is a tributary to the Schuylkill River. The facility is located in Upper Dublin Township, Montgomery County, Pennsylvania.

8. Richland Township Water Authority D-96-44 CP-3. An application for approval of a ground water withdrawal project to supply up to 15 mg/30 days of water to the applicant's public water supply from new Well No. QCS-1 and to increase the maximum combined withdrawal from all wells from 31.55 mg/30 days to 46.55 mg/30 days. The project is located in the Brunswick Formation in the Morgan Creek Watershed in Richland Township, Bucks County, Pennsylvania, in the Southeastern Pennsylvania Ground Water Protected Area. This withdrawal project is located within the drainage area to the section of the non-tidal Delaware River known as the Lower Delaware, which is designated as Special Protection Waters.

9. Borough of Portland D-2003-9 CP-3. An application to modify the service area of the existing 0.105 mgd Portland WWTP. The project proposes to add the 12.4-acre “Gary Gray parcel” to the Portland Industrial Park. The Gary Gray parcel, located in Upper Mount Bethel Township, will be developed with the Voltaix Land Development project. This project does not propose an increase in allocation of flow due to the development, and all wastewater generated by the development discharged to the WWTP for treatment will be sanitary waste. The facility will discharge directly to the section of the non-tidal Delaware River known as the Lower Delaware, which is designated as Special Protection Waters. The project is located in the Borough of Portland, Northampton County, Pennsylvania.

10. Penn Estate Utilities, Inc. D-2003-36 CP-2. An application for approval of a ground water withdrawal project to supply up to 1.642 mg/30 days of water to the applicant's public water supply system from new Well No. 8 and to increase the existing withdrawal from all wells from 10.80 mg/30 days to 12.025 mg/30 days. The increased allocation is requested in order to meet current needs in service area demand. The project is located in the Trimmers Rock Formation in the Brodhead Creek Watershed in Stroud Township, Monroe County, Pennsylvania. The site is located within the drainage area to the section of the non-tidal Delaware River known as the Middle Delaware, which is designated as Special Protection Waters.

11. Diamond Sand and Gravel Inc. D-2007-27-2. An application for a docket modification to include surface water withdrawals from the on-site washing/settling pond. Water withdrawals from the pond are used to process sand and gravel, and the closed loop operation allows the water to flow back to the pond for reuse. The applicant has requested a surface water withdrawal allocation consisting in part of 22.32 mg/30 days for withdrawals from the pond and in part of the existing 3.0 mg/30 days for withdrawals from on-site groundwater wells, for a combined total water withdrawal allocation of 23.47 mg/30 days. The project wells are constructed in the Hardyston Formation. The project is located in the Paulins Kill Watershed in Sparta Township, Sussex County, New Jersey. The site is located within the drainage area to the section of the non-tidal Delaware River known as the Lower Delaware, which is designated as Special Protection Waters.

12. CBH20 LP D-2008-26-1. An application for approval of a ground water withdrawal project to supply up to 5.71 mg/30 days of water to the applicant's public water supply system from existing Well No. PWS-4 and new Wells Nos. PWS-2 and PWS-3. The project is located in the Devonian-age, Long Run Member of the Catskill Formation in the Pocono Creek Watershed in Pocono Township, Monroe County, Pennsylvania. The site is located within the drainage area to the section of the non-tidal Delaware River known as the Middle Delaware, which is designated as Special Protection Waters.

13. Sunny Side Farms, Inc. D-2008-31-1. A ground water withdrawal project to supply a maximum of 61.7 mg/30 days of water for the irrigation of approximately 275 acres of vegetable crops from three wells—Pizzo Farm Well, Pipitone Toni Well and Tedesco Well. The wells are located in the Cohansey Formation in the Maurice River Watershed in Deerfield Township, Cumberland County, New Jersey.

14. Exelon Generation Company, LLC D-2008-38-1. An application for approval of an existing surface water withdrawal project to continue to supply up to 44,064 mg/30 days of water to the applicant's Eddystone Power Generating Station from existing Intakes Nos. 1, 2, 3, and 4. The project is located on the Delaware River at River Mile 84.42 in Water Quality Zone 4, in Eddystone Borough, Delaware County, Pennsylvania.

15. Ag-Mart Produce D-2008-39-1. A combined surface water and ground water withdrawal project to supply a maximum of 15.7 mg/30 days of water for the irrigation of approximately 70 acres of tomato plants. Water is withdrawn from an existing ground water fed pond (Fairton Pond) and an existing ground water well (Fairton Well). The project intake and well are located in the Cedar Creek Watershed, in the Kirkwood-Cohansey Aquifer in Fairfield Township, Cumberland County, New Jersey.

16. City of Wildwood Water Utility D-2008-42 CP-1. An application for approval of an existing ground water withdrawal project to supply up to 313.1 mg/30 days of water to the applicant's public water supply system from 13 of 17 total existing wells. Thirteen (13) of the 17 existing wells are located within the Delaware River Basin; the remaining wells are Aquifer Storage and Recovery wells (ASR) located in the Atlantic Basin. The applicant states that approximately 10.096 mgd (302.88 mg/30 days) of water is transferred from the Delaware River Basin into the Atlantic River Basin from the wells located in the Delaware River Basin. Consumptive loss of this water is 100% of the total water withdrawn as wastewater generated from the area served by these wells is discharged entirely to the Atlantic Basin. The existing water withdrawal and inter-basin transfer was not previously docketed by the Delaware River Basin Commission. The project withdrawals are located in the Estuarine Sand, Cohansey, Rio Grande, and Holly Beach Aquifers in the Cape May West Watershed in Middle Township, Cape May County, New Jersey.

17. Buck Hill Falls Co. D-2009-1-1. An application for renewed approval to discharge 0.20 mgd of treated effluent from the existing Buck Hill Falls WWTP, located at River Mile 213.00-21.11-0.50 (Delaware River—Brodhead Creek—Buck Hill Creek). The project is located within the drainage area to the section of the non-tidal Delaware River known as the Middle Delaware, which is designated Special Protection Waters with the classification Outstanding Basin Waters. The project is located in Barrett Township, Monroe County, Pennsylvania.

18. Parkland School District D-2009-7 CP-1. An application for approval of the existing 33,600 gpd WWTP serving the Orefield Middle School in South Whitehall Township, Lehigh County, Pennsylvania. The project discharges to Jordan Creek, a Migrating/ Trout Stocking Fishery (MF/TSF) that flows to the Lehigh River at River Mile 183.66-16.25-11.4 (Delaware River—Lehigh River—Jordan Creek). The WWTP is located within the drainage area of the section of the non-tidal Delaware River known as the Lower Delaware, which is designated as Special Protection Waters.

19. Lower Milford Township D-2009-10 CP-1. An application for approval to construct and operate a new 0.035 mgd WWTP. The WWTP is located in Lower Milford Township, Lehigh County, Pennsylvania within the drainage area of the section of the non-tidal Delaware River known as the Lower Delaware, which is designated as Special Protection Waters. The facility will discharge to Saucon Creek, a High Quality—Cold Water Fishery (HQ-CWF) that flows to the Lehigh River at River Mile 183.66-9.43-14.64 (Delaware River—Lehigh River—Saucon Creek).

20. Chesapeake Appalachia, LLC D-2009-20-1. A surface water withdrawal project to supply a maximum of 29.99 mg/30 days of water for the applicant's exploration and development of natural gas wells in the State of New York and the Commonwealth of Pennsylvania. Surface water will be withdrawn from the West Branch of the Delaware River at a location known as the Curtone site in Buckingham Township, Wayne County, Pennsylvania. This withdrawal project is located in the Delaware River Watershed within the drainage area of the section of the non-tidal Delaware River known as the Upper Delaware, which is designated as Special Protection Waters.

The business meeting also will include adoption of the Minutes of the Commission's May 6, 2009 business meeting; announcements of upcoming advisory committee meetings and other events; a report on hydrologic conditions in the basin; a report by the Executive Director; and a report by the Commission's General Counsel. Additional business meeting items will include consideration by the Commission of a resolution authorizing the Executive Director to require point source monitoring to implement the Scenic Rivers Monitoring Program in the non-tidal river and a resolution authorizing the Executive Director to accept grant funds from the National Park Service for the Scenic Rivers Monitoring Program. An opportunity for public dialogue will be provided at the end of the meeting.

Draft dockets scheduled for public hearing on July 15, 2009 will be posted on the Commission's Web site, http://www.drbc.net, where they can be accessed through the Notice of Commission Meeting and Public Hearing. Additional documents relating to the dockets and other items may be examined at the Commission's offices. Please contact William Muszynski at 609-883-9500, extension 221, with any docket-related questions.

Individuals in need of an accommodation as provided for in the Americans with Disabilities Act who wish to attend the informational meeting, conference session or hearings should contact the commission secretary directly at 609-883-9500 ext. 203 or through the Telecommunications Relay Services (TRS) at 711, to discuss how the Commission can accommodate your needs.

Dated: June 24, 2009.
Pamela M. Bush,
Commission Secretary.

[FR Doc. E9-15249 Filed 6-26-09; 8:45 am]

BILLING CODE 6360-01-P